DEPARTMENT OF HOMELAND SECURITY

Coast Guard

[Docket No. COTP Corpus Christi 07-085]

South Texas Area Maritime Security (STAMS) Committee; Vacancy

AGENCY: Coast Guard, DHS.

ACTION: Solicitation for membership.

SUMMARY: This notice requests individuals interested in serving on the South Texas Area Maritime Security (STAMS) Committee to submit their application for a potential opening on the committee to the Corpus Christi Captain of the Port/Federal Maritime Security Coordinator.

DATES: Applications should reach the Corpus Christi Captain of the Port/Federal Maritime Security Coordinator on or before October 30, 2007.

ADDRESSES: Requests for membership should be submitted to the Captain of the Port/Federal Maritime Security Coordinator at the following address:

Commander, USCG Sector Corpus Christi, 8930 Ocean Drive, Hangar 41, Corpus Christi, Texas 78419.

FOR FURTHER INFORMATION CONTACT: Mr. John Zarbock at 361-888-3162 (X501).

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Committees for any port area of the United States. (See 33 U.S.C. 1226; 46 U.S.C. 70112(a)(2); 33 CFR 1.05-1, 6.01; Department of Homeland Security Delegation No. 0170.1.) The MTSA includes a provision exempting these Area Maritime Security (AMS) Committees from the Federal Advisory Committee Act (FACA), 5 U.S.C. App. (Pub. L. 92-436).

The South Texas Area Maritime Security (STAMS) Committee assists the Captain of the Port(COTP)/Federal Maritime Security Coordinator (FMSC) in the review and update of the STAMS Plan for the Corpus Christi Area of Responsibility. Such matters may include, but are not limited to: Identifying critical port infrastructure and operations; Identifying risks (threats, vulnerabilities, and consequences); Determining mitigation strategies and implementation methods; Developing and describing the process to continually evaluate overall port security by considering consequences and vulnerabilities, how they may change over time, and what additional mitigation strategies can be applied; and Providing advice to, and assisting the COTP/FMSC in, reviewing and updating the STAMS Plan.

STAMS Committee Membership

Applicants should have at least 5 years of experience related to maritime or port security operations. The STAMS Committee has ten members, made up of at least one individual from the Corpus Christi, Rio Grande Valley, Port of Port Lavaca-Point Comfort and Victoria Barge Canal, Port Security Working Groups (PSWG). The Coast Guard has one vacancy. We are seeking individuals interested in representing the Port of Port Lavaca-Point Comfort PSWG area with this solicitation. Applicants may be required to pass an appropriate security background check prior to appointment to the committee.

The member's term of office will be for 5 years; however, a member is eligible to serve an additional term of office. Members will not receive any salary or other compensation for their service on the STAMS Committee. In support of the Coast Guard's policy on gender and ethnic diversity, we encourage qualified women and members of minority groups to apply.

Request for Applications

Those seeking membership are not required to submit formal applications to the local COTP/FMSC. Nevertheless, because we do have an obligation to ensure that a specific number of members have the prerequisite maritime security experience, we encourage the submission of resumes highlighting experience in the maritime and security industries.

Dated: September 4, 2007.
R.J. Paulison,
Captain, U.S. Coast Guard, Corpus Christi Captain of the Port/Federal Maritime Security Coordinator.

[FR Doc. E7-20497 Filed 10-16-07; 8:45 am]

BILLING CODE 4910-15-P